SECURITIES AND EXCHANGE COMMISSION

[Release No. 35-27884]

Filings Under the Public Utility Holding Company Act of 1935, as Amended (“Act”)

August 19, 2004.

Notice is hereby given that the following filing(s) has/have been made with the Commission pursuant to provisions of the Act and rules promulgated under the Act. All interested persons are referred to the application(s) and/or declaration(s) for complete statements of the proposed transaction(s) summarized below. The application(s) and/or declaration(s) and any amendment(s) is/are available for public inspection through the Commission's Branch of Public Reference.

Interested persons wishing to comment or request a hearing on the application(s) and/or declaration(s) should submit their views in writing by September 10, 2004, to the Secretary, Securities and Exchange Commission, Washington, DC 20549-0609, and serve a copy on the relevant applicant(s) and/or declarant(s) at the address(es) specified below. Proof of service (by affidavit or, in the case of an attorney at law, by certificate) should be filed with the request. Any request for hearing should identify specifically the issues of facts or law that are disputed. A person who so requests will be notified of any hearing, if ordered, and will receive a copy of any notice or order issued in the matter. After September 10, 2004, the application(s) and/or declaration(s), as filed or as amended, may be granted and/or permitted to become effective.

NiSource Inc., et al. (70-10169)

NiSource Inc. (“NiSource”), a registered public-utility holding company, Northern Indiana Public Service Company (“Northern Indiana”), Kokomo Gas and Fuel Company (“Kokomo”), Northern Indiana Fuel and Light Company, Inc. (“NIFL”), all public-utility company subsidiaries of NiSource, EnergyUSA, Inc., and its subsidiaries, PEI Holdings, Inc. (formerly known as Primary Energy, Inc.), NiSource Capital Markets, Inc. (“Capital Markets”), NiSource Corporate Services Company (“NiSource Services”), a subsidiary service company, NiSource Finance Corp. (“NiSource Finance”), Granite State Transmission, Inc., Crossroads Pipeline Company, NiSource Development Company, Inc., and its subsidiaries, NI Energy Services, Inc., and its subsidiaries, NiSource Energy Technologies, Inc., Columbia Assurance Agency, Inc., NiSource Retail Services Inc. (“Retail Services”), IWC Resources Corporation and its subsidiaries, Columbia Energy Group (“Columbia”), a registered public-utility holding company, Columbia Atlantic Trading Corporation, Columbia Deep Water Services Company, Columbia Energy Services Corporation and Columbia Remainder Corporation and its subsidiary, all located at 801 East 86th Avenue, Merrillville, Indiana 46410-6272; Bay State Gas Company (“Bay State”), Northern Utilities, Inc. (“Northern Utilities”), both gas utility companies, located at 300 Friberg Parkway, Westborough, Massachusetts 01581-5039; Columbia Gas of Kentucky, Inc. (“Columbia Kentucky”), Columbia Gas of Maryland, Inc. (“Columbia Maryland”), Columbia Gas of Ohio, Inc. (“Columbia Ohio”), Columbia Gas of Pennsylvania, Inc. (“Columbia Pennsylvania”), Columbia Gas of Virginia, Inc. (“Columbia Virginia”), all gas utility companies, and Columbia of Ohio Receivables Corporation (formerly known as Columbia Accounts Receivable Corporation), 200 Civic Center Drive, Columbus, Ohio 43215; Columbia Gas Transmission Corporation, located at 12801 Fair Lakes Parkway, Fairfax, Virginia 22030-0146; Columbia Gulf Transmission Company, located at 2603 Augusta, Suite 125, Houston, Texas 77057; Columbia Network Services Corporation and its subsidiary, both located at 1600 Dublin Road, Columbus, Ohio 43215-1082; and NiSource Insurance Corporation Limited, located at 20 Parliament Street, P.O. Box HM 649, Hamilton HM CX, Bermuda (collectively “Applicants”), have filed a post-effective amendment, as amended (“Application”), with the Commission under sections 6(a), 7, 9(a), 10, 12(b) and 12(f) of the Act and rule 54.

NiSource, directly and indirectly owns ten public utility subsidiary companies: Northern Indiana, Kokomo, NIFL, Bay State, Northern Utilities, Columbia Kentucky, Columbia Maryland, Columbia Ohio, Columbia Pennsylvania and Columbia Virginia (collectively, “Utility Subsidiaries”). By order dated December 30, 2003 (NiSource, Inc., et al., Holding Co. Act Release No. 27789) (“Prior Order”), the Commission authorized NiSource, the Utility Subsidiaries and certain of NiSource's nonutility subsidiaries to engage in a program of financing, to organize and acquire the securities of certain new subsidiaries, to engage in certain nonutility businesses and to engage in other related transactions in the ordinary course of business. Specifically, among other things, NiSource, the Utility Subsidiaries and certain of the nonutility subsidiaries were authorized to participate in the NiSource System Money Pool (“Money Pool”).¹ The participating NiSource subsidiaries were authorized to make borrowings from each other and from NiSource Finance Corp., a financing subsidiary of NiSource, through the Money Pool.

¹ By the Prior Order, no further Commission authorization is required for any new subsidiary of NiSource to participate in the Money Pool as a lender only. For the terms of the NiSource System Money Pool Agreement, see also, NiSource, Inc., et al., Holding Co. Act Release Nos. 27479 (December 21, 2001), 27535 (June 3, 2002), 27559 (August 8, 2002).

NiSource now requests that Retail Services and Central Kentucky Transmission Company (“Central Kentucky”) be permitted to be borrowers in the Money Pool.² Applicants also request that the Commission reserve jurisdiction over the participation of any other current or future direct or indirect nonutility subsidiary of NiSource as a borrower in the Money Pool.

² Both subsidiaries will be lenders to the Money Pool, as well.

Retail Services, incorporated in November 2003 and an “energy-related company” under rule 58, renders energy-management services, sells, installs, and/or services standard gas and electric appliances, and provides other technical services, including, without limitation, in-house gas line maintenance and repair services. Central Kentucky, a new nonutility to be established as a subsidiary of Columbia Kentucky, will be a “gas-related company” under rule 58, organized by Columbia Kentucky to acquire and hold a 25% undivided interest in a segment of Columbia Gas Transmission Corporation's interstate pipeline and facilities located in Kentucky. Central Kentucky's pipeline will provide gas transportation service to Columbia Kentucky and unaffiliated third parties.

For the Commission, by the Division of Investment Management, pursuant to delegated authority.
Margaret H. McFarland,
Deputy Secretary.

[FR Doc. E4-1931 Filed 8-25-04; 8:45 am]

BILLING CODE 8010-01-P